FEDERAL ELECTION COMMISSION

Sunshine Act Notices

AGENCY: Federal Election Commission.

Date & Time: Thursday, November 4, 2010, at 10 a.m.

Place: 999 E Street, NW., Washington, DC (Ninth Floor)

Status: This meeting will be open to the public.

Items To Be Discussed: Correction and Approval of Minutes for the Meetings of September 23 and October 7, 2010.

Draft Advisory Opinion 2010-23: CTIA—The Wireless Association by its counsel, Jan Witold Baran, Esq. and Caleb P. Burns, Esq. of Wiley Rein LLP.

Management and Administrative Matters.

Individuals who plan to attend and require special assistance, such as sign language interpretation or other reasonable accommodations, should contact Lisa Chapman, Recording Secretary, at (202) 694-1040, at least 72 hours prior to the hearing date.

Person to Contact for Information: Judith Ingram, Press Officer, Telephone: (202) 694-1220.

Signed:
Shawn Woodhead Werth,
Secretary and Clerk of the Commission.

[FR Doc. 2010-28223 Filed 11-8-10; 8:45 am]

BILLING CODE 6715-01-M